DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing updates to the identifying information of five persons currently included on the SDN List.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

A. On December 12, 2023, OFAC determined that the property and interests in property subject to U.S. jurisdiction of the following persons are blocked under the relevant sanctions authorities listed below:

Individuals

1. LEE, Dongjin (a.k.a. DONGJIN, Lee; a.k.a. “LEE, DJ”), Korea, South; DOB 10 Jul 1962; POB Busan, South Korea; nationality Korea, South; Gender Male; Passport M72673454 (Korea, South); alt. Passport M10069085 (Korea, South) (individual) [RUSSIA-EO14024] (Linked To: LIMITED LIABILITY COMPANY AK MICROTECH).

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the technology sector of the Russian Federation economy and for having materially assisted, sponsored, or provided financial, material, or technological support for Limited Liability Company AK Microtech, a person whose property and interests in property are blocked pursuant to E.O. 14024.

2. ASADULLAH, Syed (a.k.a. ABDULLAH, Sayed), Islamabad, Pakistan; DOB 04 Jan 1964; POB Karachi, Pakistan; nationality Pakistan; Gender Male; Passport AD1876722 (Pakistan) issued 12 Aug 2010 expires 11 Aug 2015; Identification Number 6110164716723 (Pakistan) (individual) [RUSSIA-EO14024] (Linked To: HU, Xiaoxun).

Designated pursuant to section 1(a)(vi)(B) of E.O. 14024 for having materially assisted, sponsored, or provided financial, material, or technological support for, or goods or services to or in support of Xiaoxun Hu, a person whose property and interests in property are blocked pursuant to E.O. 14024.

3. BERNIKOV, Boris Olegovich, Russia; DOB 11 Mar 1988; POB USSR; nationality Russia; Gender Male; Passport 750772630 (Russia) (individual) [RUSSIA-EO14024]. Designated pursuant to section 1(a)(i) of E.O. 14024 for operating or having operated in the defense and related materiel sector of the Russian Federation economy.

4. DOKUCHAEV, Sergey Vladimirovich (a.k.a. DOKUCHAEV, Sergei Vladimirovich), Russia; DOB 19 Jul 1957; POB Kuybyshev, Russia; nationality Russia; Gender Male; Tax ID No. 772130881808 (Russia) (individual) [RUSSIA-EO14024] (Linked To: PJSC VYSOCHAISHY).

Designated pursuant to section 1(a)(vii) of E.O. 14024 for having acted or purported to act for or on behalf of, directly or indirectly, PJSC Vysochaishy, a person whose property and interests in property are blocked pursuant to E.O. 14024.

5. GUGNIN, Vladimir Vladimirovich, Russia; DOB 20 Jun 1959; nationality Russia; Gender Male; Tax ID No. 504213050247 (Russia) (individual) [RUSSIA-EO14024] (Linked To: TECHNOLOGY 5 CO., LIMITED).

Designated pursuant to section 1(a)(vii) of E.O. 14024 for having acted or purported to act for or on behalf of, directly or indirectly, Technology 5 Co. Limited, a person whose property and interests in property are blocked pursuant to E.O. 14024.

6. HU, Xiaoxun, China; DOB 19 Oct 1975; POB China; nationality China; Gender Male; Passport G00062763 (China) (individual) [RUSSIA-EO14024].

Designated pursuant to section 1(a)(i) of E.O. 14024 for operating or having operated in the defense and related materiel sector of the Russian Federation economy.

7. KOTEKIN, Roman Aleksandrovich, Zelenograd, BLD 146, Moscow 124482, Russia; DOB 05 Nov 1985; POB Shuya, Russia; nationality Russia; Gender Male; Passport 736017311 (Russia) issued 01 Sep 2014 expires 01 Sep 2024; National ID No. 2405194435 (Russia) (individual) [RUSSIA-EO14024].

Designated pursuant to section 1(a)(i) of E.O. 14024 for operating or having operated in the defense and related materiel sector of the Russian Federation economy.

8. KRYLOV, Vladimir, Russia; DOB 11 Jan 1995; nationality Russia; Gender Male (individual) [RUSSIA-EO14024].

Designated pursuant to section 1(a)(i) of E.O. 14024 for operating or having operated in the defense and related materiel sector of the Russian Federation economy.

9. SHAKH, Nur Khabib (a.k.a. SHAH, Noor Habib), Pakistan; DOB 1966; POB Pakistan; nationality Pakistan; Gender Male; Passport KE110109 (individual) [RUSSIA-EO14024] (Linked To: HU, Xiaoxun).

Designated pursuant to section 1(a)(vi)(B) of E.O. 14024 for having materially assisted, sponsored, or provided financial, material, or technological support for, or goods or services to or in support of Xiaoxun Hu, a person whose property and interests in property are blocked pursuant to E.O. 14024.

10. ZALEVSKII, Andrei Denisovich (a.k.a. ZALEVSKI DENISOVICH, Andrei), Russia; DOB 02 Nov 1997; nationality Russia; Gender Male; Tax ID No. 771818408885 (Russia) (individual) [RUSSIA-EO14024] (Linked To: LIMITED LIABILITY COMPANY YUNA ENGINEERING).

Designated pursuant to section 1(a)(vii) of E.O. 14024 for having acted or purported to act for or on behalf of, directly or indirectly, Limited Liability Company Yuna Engineering, a person whose property and interests in property are blocked pursuant to E.O. 14024.

11. VELESLAVOV, Dmitrii Aleksandrovich, Russia; DOB 18 Oct 1970; nationality Russia; Gender Male; Tax ID No. 782573356000 (Russia) (individual) [RUSSIA-EO14024].

Designated pursuant to section 1(a)(i) of E.O. 14024 for operating or having operated in the technology sector of the Russian Federation economy.

B. On January 31, 2024, OFAC updated the entry on the SDN List for the following persons, whose property and interests in property subject to U.S. jurisdiction continue to be blocked under the relevant sanctions authority listed below.

1. EXPOBANK JOINT STOCK COMPANY, Ul. Kalanchevskaya D. 29, Str. 2, Moscow 107078, Russia; SWIFT/BIC EXPNRUMM; website www.expobank.ru; Organization Established Date 27 Jul 1994; Target Type Financial Institution; Tax ID No. 7708397772 (Russia); Legal Entity Number 25340021X4U05MWVVZ818; Registration Number 1217700369083 (Russia) [RUSSIA-EO14024].

-to-

EXPOBANK JOINT STOCK COMPANY, Ul. Kalanchevskaya D. 29, Str. 2, Moscow 107078, Russia; SWIFT/BIC EXPNRUMM; website www.expobank.ru; Organization Established Date 27 Jul 1994; Target Type Financial Institution; Tax ID No. 7708397772 (Russia); Legal Entity Number 25340021X4U05MWVZ818; Registration Number 1217700369083 (Russia) [RUSSIA-EO14024].

Designated pursuant to section 1(a)(i) of E.O. 14024 for operating or having operated in the financial services sector of the Russian Federation economy.

2. SETTLEMENT NON BANK CREDIT ORGANIZATION METALLURG, 16 Ivana Babushkina, Moscow, Russia 117292, Russia; SWIFT/BIC MECCRUM1; website www.metallurgbank.ru; Organization Established Date 1994; Target Type Financial Institution; Tax ID No. 7703010220 (Russia); Registration Number 1027739246490 (Russia) [RUSSIA-EO14024].

-to-

SETTLEMENT NON BANK CREDIT ORGANIZATION METALLURG, 16 Ivana Babushkina, Moscow 117292, Russia; SWIFT/BIC MECCRUM1; website www.metallurgbank.ru; Organization Established Date 1994; Target Type Financial Institution; Tax ID No. 7703010220 (Russia); Registration Number 1027739246490 (Russia) [RUSSIA-EO14024].

Designated pursuant to section 1(a)(i) of E.O. 14024 for operating or having operated in the financial services sector of the Russian Federation economy.

3. LIMITED LIABILITY COMPANY AVIATEKSIM, Ul. Parkovaya 9-YA D. 37, Korp. 2, Pom. 63, Moscow 105264, Russia; Tax ID No. 7719188717 (Russia); Registration Number 1074345039339 (Russia) [RUSSIA-EO14024].

-to-

LIMITED LIABILITY COMPANY AVIATEKSIM, Ul. Parkovaya 9-YA D. 37, Korp. 2, Pom. 63, Moscow 105264, Russia; Tax ID No. 7719188717 (Russia); Registration Number 1027739516111 (Russia) [RUSSIA-EO14024]

Designated pursuant to section 1(a)(i) of E.O. 14024 for operating or having operated in the aerospace sector of the Russian Federation economy.

4. BERNIKOV, Boris Olegovich, Russia; DOB 11 Mar 1988; POB USSR; nationality Russia; Gender Male; Passport 750772630 (Russia) (individual) [RUSSIA-EO14024].

-to-

BERNIKOV, Boris Olegovich, Russia; DOB 11 Mar 1988; POB Moscow, Russia; nationality Russia; Gender Male; Passport 750722630 (Russia) (individual) [RUSSIA-EO14024].

Designated pursuant to section 1(a)(i) of E.O. 14024 for operating or having operated in the defense and related materiel sector of the Russian Federation economy.

5. AKTSIONERNOE OBSHCHESTVO RUST 95 (a.k.a. “AO RUST 95”), Ul. Severnaya D. 12, Kolpino 196655, Russia; Tax ID No. 7445024175 (Russia); Registration Number 1027700457443 (Russia) [RUSSIA-EO14024].

-to-

AKTSIONERNOE OBSHCHESTVO RUST 95 (a.k.a. “AO RUST 95”), Ul. Severnaya D. 12, Kolpino 196655, Russia; Tax ID No. 7728120384 (Russia); Registration Number 1027700457443 (Russia) [RUSSIA-EO14024].

Dated: January 31, 2024.
Bradley T. Smith,
Director, Office of Foreign Assets Control, U.S. Department of the Treasury.

[FR Doc. 2024-02496 Filed 2-6-24; 8:45 am]

BILLING CODE 4810-AL-P